DEPARTMENT OF AGRICULTURE

Forest Service

Notice of Settlement Pursuant to CERCLA; Gibson Mine Site, Gila County, AZ

AGENCY: Forest Service, USDA.

ACTION: Notice of settlement.

SUMMARY: In accordance with section 122(i) of the Comprehensive Environmental Response, Compensation, and Liability Act, as amended (CERCLA), 42 U.S.C. 9622(i), notice is hereby given of an administrative settlement for recovery of response costs with The Franciscan Friars of California, Inc. (the Settling Party) concerning the Gibson Mine Site, Gila County, Arizona. The settlement requires the Settling Party to pay up to a total of $11,000 in oversight costs to the USDA Forest Service, Southwestern Region, pursuant to section 122(h)(1) of CERCLA, 42 U.S.C. 9622(h)(1). The settlement includes a covenant not to sue the Settling Party pursuant to sections 106 and 107(a) of CERCLA, 42 U.S.C. 9606 and 9607(a), with regard to the Site.

For thirty (30) days following the date of publication of this notice, the United States will receive written comments relating to the settlement. The United States will consider all comments received and may modify or withdraw its consent to the settlement if comments received disclose facts or considerations which indicate that the settlement is inappropriate, improper, or inadequate. The United States response to any comments received will be available for public inspection at the Globe Ranger District, 7680 South Six Shooter Canyon Road, Globe, AZ, 85501, and at the offices of the USDA Forest Service, Southwestern Region, 333 Broadway, SE., Albuquerque, NM 87102.

DATES: Comments must be submitted on or before September 25, 2006.

ADDRESSES: The proposed settlement is available for public inspection at the Globe Ranger District, 7680 South Six Shooter Canyon Road, Globe, AZ 85501, and at the offices of the USDA Forest Service, Southwestern Region, 333 Broadway, SW., Albuquerque, NM 87102. A copy of the proposed settlement may be obtained from Anne Fischer, Tonto National Forest at 602-225-5389, or from Thomas R. Fox, USDA Office of the General Counsel at (202) 720-6715. Comments should reference the Gibson Mine Site, Gila County, Arizona, and should be addressed to Thomas R. Fox, USDA Office of the General Counsel, Room 3351 South Building, 1400 Independence Avenue, SW., Washington, DC 20250-1412.

FOR FURTHER INFORMATION CONTACT: For technical information, contact Maria McGaha, USDA Forest Service Southwestern Region, 333 Broadway, SE., Albuquerque, NM 87102; phone (505) 842-3837. For legal information, contact Thomas R. Fox, USDA Office of the General Counsel, Room 3351 South Building, 1400 Independence Avenue, SW., Washington, DC 20250-1412; phone (202) 720-6715.

August 17, 2006.
Lucia M. Turner,
Deputy Regional Forester, USDA Forest Service, Southwestern Region.

[FR Doc. 06-7142 Filed 8-24-06; 8:45 am]

BILLING CODE 3410-11-M